DEPARTMENT OF LABOR

Bureau of Labor Statistics

Agency Information Collection Activities: Proposed Collection; Comment Request; 60-Day Notice of Information Collection Under Review: Cognitive and Psychological Research

ACTION: Notice; correction.

SUMMARY: The Department of Labor, Bureau of Labor Statistics published a notice in the Federal Register. Agency Information Collection Activities: Proposed Collection; Comment Request Action: 30-Day Notice of Information Collection Under Review: Cognitive and Psychological Research. The Department is issuing a correction of the comment date, as this should have been published as a 60-day notice.

Correction

This is to correct the comment date in the Federal Register of September 22, 2008, Volume 73, Number 184 on page 54623, in section marked DATES, to read:

DATES: Written comments must be submitted to the office listed in the ADDRESSES section of this notice on or before November 22, 2008.

Signed at Washington, DC, this 10th day of October 2008.
Cathy Kazanowski,
Division of Management Systems, Bureau of Labor Statistics.

[FR Doc. E8-24729 Filed 10-17-08; 8:45 am]

BILLING CODE 4510-24-P